ENVIRONMENTAL PROTECTION AGENCY

40 CFR Part 81

[OAR-2003-0061; FRL-7896-8]

RIN-2060-AM04

Air Quality Designations for the Fine Particles (PM2.5) National Ambient Air Quality Standards—Supplemental Amendments

AGENCY: Environmental Protection Agency (EPA).

ACTION: Final rule; supplemental amendments.

SUMMARY: On January 5, 2005, EPA promulgated air quality designations for all areas for the national ambient air quality standards (NAAQS) for fine particles (i.e. particles less than 2.5 microns in diameter, also known as PM2.5) (70 FR 944). We designated 47 areas composed of 224 counties and the District of Columbia as nonattainment. We designated 5 areas comprised of 7 counties as unclassifiable. We designated the remaining counties in the United States as attainment/unclassifiable. We based the designations in the January 5, 2005, final rule on air quality monitoring data from the 3-year period of 2001 to 2003. In that action, we provided that these designations would be effective 90 days from the date of publication in the Federal Register, which is April 5, 2005. Because the designations occurred at the end of 2004, we indicated our desire to consider 2004 data where feasible in order to evaluate attainment status based upon data from the 3-year period of 2002 to 2004. We explained that we would consider any complete, quality-assured, and certified 2004 PM2.5 data submitted by any State to EPA by February 22, 2005, if such data indicated that a change in the designation for the entire area would be appropriate.

In the January 5, 2005, action, we stated that if EPA agreed that a change in the designation was appropriate based upon the inclusion of 2004 data, then EPA would withdraw the initial designation for the area and issue a designation that reflected the consideration of the new data before the April 5, 2005, effective date. Today's action addresses areas for which States have submitted complete, quality-assured, and certified PM2.5 air quality data for 2004, and it modifies the designation status to attainment for eight areas we originally designated as nonattainment and for four areas we originally designated as unclassifiable. This action also includes technical corrections related to boundary descriptions for a few areas included in the January 5, 2005, action. The EPA has received a number of other petitions in connection with the PM2.5 designations pertaining to issues other than inclusion of 2004 data as a basis for changing the designation prior to the effective date. The EPA is not responding to those petitions in this document and will be evaluating and responding to those petitions separately.

DATES: Effective upon April 5, 2005.

ADDRESSES: The EPA has established a docket for this action under Docket ID No. OAR-2003-0061. All documents in the docket are listed in the EDOCKET index at http://www.epa.gov/edocket. Although listed in the index, some information is not publicly available, i.e., Confidential Business Information (CBI) or other information whose disclosure is restricted by statute. Certain other material, such as copyrighted material, is not placed on the Internet and will be publicly available only in hard copy form. Publicly available docket materials are available either electronically in the EDOCKET or in hard copy at the Docket, EPA/DC, EPA West, Room B102, 1301 Constitution Ave., NW., Washington, DC. The Public Reading Room is open from 8:30 a.m. to 4:30 p.m. Monday through Friday, excluding legal holidays. The telephone number for the public Reading Room is (202) 566-1744, and the telephone number for the Office of Air and Radiation Docket and Information Center is (202) 566-1742. In addition, we have placed a copy of the rule and a variety of materials regarding designations on EPA's designation Web site at: http://www.epa.gov/oar/oaqps/particles/designations/index.htm and on the Tribal Web site at: http://www/epa.gov/air/tribal.

FOR FURTHER INFORMATION CONTACT: Designations: Mr. Rich Damberg, U.S. Environmental Protection Agency, Office of Air Quality Planning and Standards, Mail Code C504-02, Research Triangle Park, NC 27711, phone number (919) 541-5592 or by e-mail at: damberg.rich@epa.gov.

Designations and Part 81 Code of Federal Regulations (CFR): Larry D. Wallace, Ph.D., U.S. Environmental Protection Agency, Office of Air Quality Planning and Standards, Mail Code C504-02, Research Triangle Park, NC 27711, phone number (919) 541-0906 or by e-mail at: wallace.larry@epa.gov.

Technical Issues Related to Designations: Mr. Thomas Rosendahl, U.S. Environmental Protection Agency, Office of Air Quality Planning and Standards, Mail Code C504-02, Research Triangle Park, NC 27711, phone number (919) 541-5314 or by e-mail at: rosendahl.tom@epa.gov.

PM2.5 Air Quality Data Issues: Mr. Mark Schmidt, U.S. Environmental Protection Agency, Office of Air Quality Planning and Standards, Mail Code C-304-01, Research Triangle Park, NC 27711, phone number (919) 541-5314 or by e-mail at: schmidt.mark@epa.gov.

Region I—Alison Simcox (617) 918-1684,

Region II—Kenneth Fradkin (212) 637-3702,

Region III—Denny Lohman (215) 814-2192,

Region IV—Steve Scofield (404) 562-9034,

Region V—John Summerhays (312) 886-6067,

Region VI—Joe Kordzi (214) 665-7186,

Region VII—Amy Algoe-Eakin (913) 551-7942,

Region VIII—Libby Faulk (303) 312-6083,

Region IX—Eleanor Kaplan (415) 744-1286,

Region X—Keith Rose (206) 553-1949.

SUPPLEMENTARY INFORMATION: The public may inspect the rule and the technical support information at the following locations:

Regional offices | States
Dave Conroy, Acting Branch Chief, Air Programs Branch, EPA New England, I Congress Street, Suite 1100, Boston, MA 02114-2023, (617) 918-1661 | Connecticut, Maine, Massachusetts, New Hampshire, Rhode Island, and Vermont.
Raymond Werner, Chief, Air Programs Branch, EPA Region II, 290 Broadway, 25th Floor, New York, NY 10007-1866, (212) 637-4249 | New Jersey, New York, Puerto Rico, and Virgin Islands.
Makeba Morris, Branch Chief, Air Quality Planning Branch, EPA Region III, 1650 Arch Street, Philadelphia, PA 19103-2187, (215) 814-2187 | Delaware, District of Columbia, Maryland, Pennsylvania, Virginia, and West Virginia.
Richard A. Schutt, Chief, Regulatory Development Section, EPA Region IV, Sam Nun Atlanta Federal Center, 61 Forsyth Street, SW., 12th Floor, Atlanta, GA 30303, (404) 562-9033 | Alabama, Florida, Georgia, Kentucky, Mississippi, North Carolina, South Carolina, and Tennessee.
Jay Bortzer, Chief, Air Programs Branch, EPA Region V, 77 West Jackson Street, Chicago, IL 60604, (312) 886-4447 | Illinois, Indiana, Michigan, Minnesota, Ohio, and Wisconsin.
Donna Ascenzi, Acting Associate Director Air Programs, EPA Region VI, 1445 Ross Avenue, Dallas, TX 75202, (214) 665-2725 | Arkansas, Louisiana, New Mexico, Oklahoma, and Texas.
Joshua A. Tapp, Chief, Air Programs Branch, EPA Region VII, 901 North 5th Street, Kansas City, Kansas 66101-2907, (913) 551-7606 | Iowa, Kansas, Missouri, and Nebraska.
Richard R. Long, Director, Air and Radiation Program, EPA Region VIII, 999 18th, Suite 300, Denver, CO 80202, (303) 312-6005 | Colorado, Montana, North Dakota, South Dakota, Utah, and Wyoming.
Steven Barhite, Air Planning Office, EPA Region IX, 75 Hawthorne Street, San Francisco, CA 94105, (415) 972-3980 | Arizona, California, Guam, Hawaii, and Nevada.
Mahbubul Islam, Manager, State and Tribal Air Programs, EPA Region X, Office of Air, Waste, and Toxics, Mail Code OAQ-107, 1200 Sixth Avenue, Seattle, WA 98101, (206) 553-6985 | Alaska, Idaho, Oregon, and Washington.

Table of Contents

The following is an outline of the Preamble.

I. What Is the Purpose of Today's Action?

II. Designation Decisions Based on 2002-2004 Data

III. Technical Corrections for Area Boundaries

IV. Significance of Today's Action

V. Effective Date of Today's Action

VI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer Advancement Act (NTTAA)

J. Congressional Review Act

K. Judicial Review

I. What Is the Purpose of Today's Action?

On January 5, 2005, EPA promulgated air quality designations for all areas in the United States for the NAAQS for PM2.5 (70 FR 944), in accordance with section 107(d) of the Clean Air Act (CAA). The list of areas in each State, the boundaries of each area, and the designation of each area, appear in a table at the end of that action. The purpose of today's action is to modify the PM2.5 designation for a number of areas that we designated nonattainment or unclassifiable in the January 5, 2005 action, and to make certain technical corrections to the table of areas described in 40 CFR part 81.

The January 5, 2005, PM2.5 designations were based on air quality data for 2001 through 2003. We designated 47 areas comprised of 224 counties and the District of Columbia were designated as nonattainment. We designated 5 areas comprised of 7 counties as unclassifiable. We designated the remaining counties in the United States as attainment/unclassifiable. We based the designations in the January 5, 2005, action on air quality monitor data from the 3-year period of 2001 to 2003. The action provided that these designations would be effective 90 days from the date of publication (i.e. April 5, 2005).

Because the designation process occurred so close to the end of the 2004 calendar year, EPA indicated that we would consider any complete, quality-assured, and certified PM2.5 data for 2004 submitted by any State by February 22, 2005, if such data indicated that the attainment status for the entire area, based on 2002-2004 data, would differ from the status indicated in the January 5 action. In other words, we indicated that the agency would consider changing the designation status of an area from nonattainment to attainment, or unclassifiable to attainment, if each monitor in the initially designated area had air quality data for the 2002-2004 period below the level of the standards.

The EPA received complete, quality-assured, and certified air quality data for 2004 from a number of States prior to February 22, 2005. Based on our evaluation of this data, in today's action, EPA is changing the designation status from nonattainment to attainment for eight areas, and from unclassifiable to attainment for four areas. Today's modifications to the initial designations for these areas do not represent “redesignations” because these changes are being made prior to the effective date of the initial PM2.5 designations. We are making these changes to reflect the most recent 3 years of complete, quality-assured, and certified data that are available prior to the effective date of the designations. After April 5, 2005, any change in the PM2.5 designation status for an area, other than those that might result from a petition for reconsideration or error correction, would be subject to the redesignation provisions of section 107(d)(3) of the CAA.

In the January 5, 2005, action, we also stated that if certified 2004 data indicated a violation of the standard in an area we initially designated as attainment based on 2001-2003 data, EPA would evaluate the reason for the violation and determine the appropriate course of action, including the possibility of redesignation to nonattainment. No States submitted certified 2004 data by February 22, 2005, to indicate that the status of any area should change from attainment or unclassifiable to nonattainment. The EPA has committed to evaluate all 2004 data for areas initially designated as unclassifiable. Under existing regulations, States are required to certify air quality data for 2004 by July 1, 2005. At that time, EPA will evaluate whether a change of designation for an unclassifiable area is appropriate.

II. Designation Decisions Based on 2002-2004 Data

Areas changing from nonattainment to attainment based on 2002-2004 data. A number of States, including AL, CA, GA, IN, KY, OH, PA, TN, and WV, submitted certified 2004 air quality monitoring data to EPA by February 22, 2005. (All correspondence from States related to this action can be found in docket OAR-2003-0061 for this action.) Based upon our technical evaluation of the certified 2004 data provided by these States, we have determined that the nonattainment designation for seven areas listed in the January 5 action (based on 2001-2003 data) should be changed to attainment (based on 2002-2004 data). In each of these areas, all PM2.5 monitors have complete, quality-assured, and certified data below the level of the PM2.5 standards for the 2002-2004 period. These seven areas are:

—Athens, Georgia (Clarke county);

—Elkhart, Indiana (Elkhart and St. Joseph's counties);

—Lexington, Kentucky (Fayette and Mercer counties);

—Marion county, WV (Marion, Monangalia, and Harrison counties);

—San Diego, California (San Diego county);

—Toledo, Ohio (Lucas and Wood counties); and

—Youngstown, OH-PA (Columbiana, Mahoning, and Trumbull counties, Ohio; Mercer county, Pennsylvania).

(A summary of the air quality data for these areas is included in the technical support document for this action. Comprehensive information for these areas is available from EPA's Air Quality Subsystem at: http://www.epa.gov/ttn/airs/airsaqs/index.htm.)

Areas changing from unclassifiable to attainment based on 2002-2004 data. In addition, we have determined that for four areas the unclassifiable designation in the January 5 action (based on 2001-2003 data) should now be changed to attainment (based on 2002-2004 data). In each of these areas, all PM2.5 monitors have complete, quality-assured, and certified data below the level of the PM2.5 standards for the 2002-2004 period. These four areas are:

—Dekalb county, Alabama;

—Gadsden, Alabama (Etowah county);

—McMinn county, Tennessee; and

—Muncie, Indiana (Delaware county).

(A summary of the air quality data for these areas is included in the technical support document for this action. Comprehensive information for these areas is available from EPA's Air Quality Subsystem at: http://www.epa.gov/ttn/airs/airsaqs/index.htm.)

For all of the areas changing from either nonattainment or unclassifiable to attainment based upon the consideration of 2004 data, EPA has determined that it is appropriate to revise the initial designation announced in the January 5, 2005, action before the April 5, 2005, effective date. The EPA believes that the specific redesignation requirements of the CAA, including those set forth in section 107(d)(3)(E), do not apply until after the effective date of a designation. The EPA has concluded that, where possible, inclusion of 2004 data results in the appropriate initial designation. Subsequent changes to the designation of these or other areas may require compliance with the statutory provisions governing the formal redesignation process.

Requests to change individual counties to attainment. The EPA received requests from a number of States to change the status of a selected county within a larger nonattainment area from nonattainment to attainment based upon 2004 data. For five counties in four nonattainment areas (see table below), States submitted certified 2004 data showing that the 2002-2004 value for all monitors in the specific county at issue is below the level of the PM2.5 annual standard. In each of these situations, however, there are other monitors in the larger nonattainment area identified in the January 5, 2005 action which continue to violate the annual standard based on 2002-2004 data. The following table lists the State and county in question, the associated nonattainment area, and the other violating county in the area.

State | County | PM2.5 nonattainment area | Other county in area violating with 2002-2004 data
Indiana | Lake | Chicago | Cook County, IL
Indiana | Vanderburgh | Evansville | Dubois County, IN
Michigan | Monroe | Detroit | Wayne County, IL
Ohio | Scioto, Lawrence | Huntington, WV-OH | Cabell County, WV

The EPA indicated in the January 5 action that we would make changes in status from nonattainment to attainment based on certified 2004 data only for entire areas in which all PM2.5 monitors were attaining: “If inclusion of 2004 data causes an area to change from nonattainment to attainment, EPA will change the designation if every county in the area is neither monitoring a violation of the standards nor contributing to a violation of the standards in another nearby area.” In addition, EPA has examined the data and concluded that each of these counties continues to contribute to the overall air quality problem in the larger nonattainment area. As explained in the January 5, 2005 action, EPA has designated as nonattainment not only those counties with violating monitors, but also those nearby counties that contribute to the problem at the violating monitor. For these reasons, EPA is not changing the designation status for Lake and Vanderburgh Counties in Indiana, Monroe County in Michigan, and Scioto and Lawrence Counties in Ohio. The technical support document for this action includes additional discussion on each of these individual counties and nonattainment areas.

Also, EPA received a number of petitions from States and local governments that did not meet our request for submission of 2004 data indicating that a change of designation was appropriate for the entire area. In general, these petitions pertained to the degree of contribution to nonattainment of one or more counties within a nonattainment area or to the boundaries of specific nonattainment areas. The EPA is evaluating these petitions and intends to respond to them separately at a later date.

Chattanooga, TN request to invalidate multiple monitoring samples and change status to attainment. The Chattanooga-Hamilton County Air Pollution Control Bureau and the State of Georgia have submitted requests to EPA to invalidate samples for 25 days at monitors in Hamilton County, TN and Walker County, GA. They based their requests on claims that these sites were impacted by various fire events occurring in locations such as Kansas, Alaska, and Canada. Chattanooga claimed that if all such days were invalidated, then the Hamilton County, TN monitors would have incomplete data and could not remain designated as nonattainment. Georgia contended that if these samples were invalidated, the Walker County, GA monitor would then attain the standards. In addition, Georgia has maintained that if Walker County attains the standard, then the status for Catoosa County should be changed to attainment because the State claims its contribution to nonattainment does not extend to Hamilton County, TN. The EPA has concluded that Catoosa County contributes to both Hamilton and Walker Counties based upon evaluation of the factors applied by EPA in the initial designation decision (particularly population, commuting, and emissions) as discussed in the original technical support document.

We have reviewed the data for the 25 days in question and the supporting information provided by local and State agencies for the Chattanooga area. Previously, EPA disapproved the request to invalidate 10 days in 2002. For the 15 days in 2003 and 2004 requested by Chattanooga to be invalidated due to fire impacts, EPA has determined that there is insufficient evidence to show impacts from the fire events for at least 7 of these days, and is disapproving the requests to invalidate air quality data for those days. This determination is based on EPA's review of the supporting information provided to EPA, as well as additional analyses conducted by EPA. These analyses include back trajectories and a review of chemical composition data for the area, and they are available in the technical support document and docket for this action.

The EPA has determined that it is not necessary to reach a final conclusion with respect to the remaining 8-flagged days. Even if it were appropriate to invalidate the data from all of the remaining days, the monitor in Hamilton County, TN would still violate the PM2.5 standards for 2002-2004 with a design value of 15.4. Assuming invalidation of all 7 days, the monitor in Walker County, GA would attain the standard at 14.8. However, even though the Walker County monitor would be below the level of the standard, we continue to conclude that Walker County contributes to the nonattainment problem at the Hamilton County, TN monitor, thus requiring the inclusion of that county in the nonattainment area.

Thus, even if it was appropriate to invalidate all of the remaining 8-flagged days, EPA has determined that at least one county in the Chattanooga nonattainment area would continue to have a violating monitor. As stated in the January 5, 2005, action, we indicated that it might be appropriate to change the nonattainment designation of an area only if all monitors in the area show attainment. Because there is a continuing violation at one monitor in the area, and because there is continued contribution from the other counties to the violating monitor, EPA has determined that the area still would violate the standard even if all additional flagged days were invalidated. Moreover, any uncertainty concerning the possible invalidation of the remaining flagged days is not an appropriate basis for designating this area unclassifiable. That designation is reserved for those areas where EPA lacks sufficient information upon which to make a judgment whether or not the area is attaining the PM2.5 NAAQS. In this instance, given that invalidation of the remaining flagged days would not change the outcome, the area does not meet the NAAQS. For this reason, EPA is not modifying the nonattainment status of Hamilton County in Tennessee or Walker or Catoosa Counties in Georgia.

Columbus, GA-AL: Request for spatial averaging and request for attainment based on 2002-2004 data.

Any State or States requesting spatial averaging of PM2.5 monitoring sites must demonstrate that the sites meet several criteria as described in EPA regulations (40 CFR part 58.). First, the annual mean for each site must be within 20 percent of the annual mean calculated with spatial averaging. Second, the sites must show “similar day-to-day variability” (e.g., 0.60 correlation). Third, the States must demonstrate that the sites are affected by the same emissions sources. Fourth, the States must provide adequate notice to the public of the proposed change in the monitoring plan and potential effect on attainment status, including a public hearing and opportunity for public comment.

In June 2004, the States of Georgia and Alabama submitted proposed changes to their monitoring plans to conduct spatial averaging for three monitoring sites in the Columbus, GA-AL area (two in Muscogee County, GA and one in Russell County, AL). In November 2004, EPA denied the request for spatial averaging on the basis that: (1) the submittal did not provide a basis for a 3-site community monitoring zone, and (2) the information did not demonstrate that all monitors were impacted by similar emissions sources. The letter also questioned the validity of several samples collected at the Russell county site during 2001 and 2002.

In December 2004, both States submitted revised monitoring plans requesting spatial averaging for the two downtown monitoring sites, one in Muscogee County, GA and one in Russell County, AL. In February 2005, both States submitted certified 2004 data for the two sites in question, and they also requested a change in status from nonattainment to attainment for the area, provided that EPA approved their pending spatial averaging request and that 2002-2004 data for the two sites could be averaged.

The EPA has conducted an extensive technical review of the information provided by both States to support the most recent spatial averaging proposals. Based on our review of a number of factors, we are approving the spatial averaging request. We also have determined that when 2002-2004 air quality data for the two sites are averaged, the Columbus, GA-AL metropolitan area now attains the PM2.5 standards. The spatial average for 2002-2004 is just under the standard at a level of 15.04.

In evaluating the spatial averaging proposals, EPA considered a number of factors in accordance with the PM2.5 NAAQS and PM2.5 monitoring regulations. The two monitors (one operated in Phenix City by AL and one in Columbus by GA) are less that 2 km apart. Both monitors are located in the inner city and are influenced by similar emission sources. The 3-year design value for each site is within ±2 percent of the new approved spatial average design value of 15.04. Furthermore, the monitors exhibit similar day-to-day variability indicated by a 0.85 correlation of 24-hr concentrations.

However, EPA also notes that annual concentrations at the two monitors are trending upward, with each site recording its highest annual average concentration in 2004. The 2004 average for these monitors is 15.4 μg/m³. The EPA also notes that the monitors exhibit the highest disparity in their 24-hr concentrations during the 1st calendar quarter. Therefore, EPA will continue to monitor the PM2.5 measurements particularly during the winter period to ensure that we have a continuing understanding of any air quality changes that may occur in the future.

Therefore, for the above reasons and others discussed in the technical support document, EPA is approving the December 2004 2-site spatial averaging plan for the Columbus, GA-AL nonattainment area in today's action. It is therefore appropriate to change the designation of Muscogee County, GA and Russell County, AL from nonattainment to attainment. Please refer to the technical support document for more detailed information on EPA's review of the spatial averaging plan for this area.

III. Technical Corrections for Area Boundaries

In today's rule, EPA is also making minor technical corrections to certain attainment area boundary descriptions included in the January 5 action. Technical corrections for boundaries listed in 40 CFR part 81 are included for the following areas: (1) The State of Louisiana to correct the listings for air quality control region 106, (2) the boundary description for Placer County, CA, (3) a change to the boundary description for Randolph County, IL to change Baldwin Village to Baldwin Township, and (4) the boundary description for Gallia County, OH to remove Addison Township and to include Cheshire Township. These corrections are being made to provide an accurate description of the boundaries for the affected areas as previously submitted to EPA by the States and/or included in the January 5 technical support document. In the January 5, 2005, action, these errors were inadvertently made in the process of drafting the text for the part 81 tables. The corrections made by EPA in today's rule are listed in the tables at the end of this notice, and these changes will be reflected in a revision of 40 CFR part 81.

IV. Significance of Today's Action

Based on the foregoing discussion, EPA is today making changes to the January 5, 2005 (70 FR 944), rulemaking which designated areas for the PM2.5 NAAQS. The corrections made by EPA in today's rule, related to the designations for the PM2.5 standard, are set forth in the tables at the end of this notice, and will change the designation description for the affected areas in 40 CFR part 81 initially announced in the January 5, 2005, action. States with areas designated as nonattainment for the PM2.5 NAAQS are required to submit State Implementation Plans (SIPs) addressing nonattainment area requirements within 3 years of designation, pursuant to section 172 of the CAA. Therefore, within 3 years following the April 5, 2005, effective date for the designations identified in the January 5, 2005 (70 FR 944), rulemaking, States will be required to submit SIPs for nonattainment areas. The EPA intends to issue another rule that will assist States in developing SIPs that meet the requirements of the CAA. The EPA plans to issue the proposal for that rulemaking in the near future.

V. Effective Date of Today's Action

The effective date of designations of areas corrected or changed in today's rule is April 5, 2005, the date indicated in the January 5, 2005 (70 FR 944), PM2.5 designation rulemaking. The EPA is making these changes without notice and comment in accordance with section 107(d)(2) of the CAA, which exempts the promulgation of these designations from the notice and comment provisions of the Administrative Procedures Act. Section 553(d) of the Administrative Procedures Act generally provides that rulemakings shall not be effective less than 30 days after publication except where a substantive rule relieves a restriction or where the agency finds good cause for an earlier date. 5 U.S.C. 553(d)(1) and (3). Were EPA not to expedite the effective date of today's action, a number of areas would continue to be designated nonattainment or unclassifiable, in spite of 2004 data that indicate a change of designation is appropriate. Because EPA has concluded that a change of designation is already appropriate based on available information, EPA believes that it would serve no purpose to require the States in question to pursue redesignation through other means that may result in delay and the unnecessary expenditure of resources. The effective date for today's action is therefore justified because: (1) It relieves a restriction by eliminating a restriction by eliminating inappropriate nonattainment or unclassifiable designations that would otherwise become effective on April 5, 2005, and (2) it is in the public interest to avoid the potential delay and waste of resources associated with allowing the January 5, 2005 designations to go into effect for these areas.

VI. Statutory and Executive Order Reviews

Upon promulgation of a new or revised NAAQS, the CAA requires EPA to designate areas with respect to their attainment of such NAAQS. The CAA imposes requirements for areas based upon whether such areas are attaining or not attaining the NAAQS. In this final rule, EPA assigns designations to areas as required.

A. Executive Order 12866: Regulatory Planning and Review.

Under Executive Order 12866 (58 FR 51735, October 4, 1993), EPA must determine whether the regulatory action is “significant” and, therefore, subject to the Office of Management and Budget (OMB) review and the requirements of the Executive Order. The order defines “significant regulatory action” as one that is likely to result in a rule that may: (1) Have an annual effect on the economy of $100 million or more or adversely affect in a material way the economy, a sector of the economy, productivity, competition, jobs, the environment, public health or safety, or State, local, or Tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

Pursuant to the terms of Executive Order 12866, it has been determined that this rule is not a “significant regulatory action” because none of the above factors apply. As such, this final rule was not formally submitted to OMB for review.

B. Paperwork Reduction Act

This action does not impose an information collection burden under the provisions of the Paperwork Reduction Act, 44 U.S.C. 3501 et seq. This rule responds to the requirement to promulgate air quality designations after promulgation of a NAAQS. This requirement is prescribed in the CAA section 107 of title 1. The present final rule does not establish any new information collection apart from that required by law. Burden means that total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An Agency may not conduct or sponsor, and a person is not required to respond to a collection of information unless it displays a currently valid OMB control number. The OMB control numbers for EPA's regulations in the CFR are listed in 40 CFR part 9.

C. Regulatory Flexibility Act

Today's rule is not subject to the Regulatory Flexibility Act (RFA), which generally requires an agency to prepare a regulatory flexibility analysis for any rule that will have a significant economic impact on a substantial number of small entities. The RFA applies only to rules subject to notice and comment rulemaking requirements under the Administrative Procedure Act (APA) or any other statute. This rule is not subject to notice and comment requirements under the APA or any other statute because it was not subject to notice and comment rulemaking requirements. See CAA section 107(d)(2)(B).

D. Unfunded Mandates Reform Act

Title II of the Unfunded Mandates Reform Act of 1995 (UMRA), Public Law 104-4, establishes requirements for Federal Agencies to assess the effects of their regulatory actions on State, local and Tribal governments and the private sector. Under section 202 of the UMRA, EPA generally must prepare a written statement, including a cost-benefit analysis, for proposed and final rules with “Federal mandates” that may result in expenditures to State, local, and Tribal governments, in the aggregate, or to the private sector, of $100 million or more in any 1 year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation of why that alternative was not adopted. Before EPA establishes any regulatory requirements that may significantly or uniquely affect small governments, including Tribal governments, it must have developed under section 203 of the UMRA a small government agency plan. The plan must provide for notifying potentially affected small governments to have meaningful and timely input in the development of EPA regulatory proposals with significant Federal intergovernmental mandates, and informing, educating, and advising small government on compliance with regulatory requirements.

Today's final action does not include a Federal mandate within the meaning of UMRA that may result in expenditures of $100 million or more in any 1 year by either State, local, or Tribal governments in the aggregate or to the private sector, and therefore, is not subject to the requirements of sections 202 and 205 of the UMRA. It does not create any additional requirements beyond those of the PM2.5 NAAQS (62 FR 38652; July 18, 1997), therefore, no UMRA analysis is needed. This rule establishes the application of the PM2.5 standard and the designation for each area of the country for the PM2.5 NAAQS. The CAA requires States to develop plans, including control measures, based on their designations and classifications.

One mandate that may apply as a consequence of this action to all designated nonattainment areas is the requirement under CAA section 176(c) and associated regulations to demonstrate conformity of Federal actions to SIPs. These rules apply to Federal agencies and Metropolitan Planning Organizations (MPOs) making conformity determinations. The EPA concludes that such conformity determinations will not cost $100 million or more in the aggregate.

The EPA believes that any new controls imposed as a result of this action will not cost in the aggregate $100 million or more annually. Thus, this Federal action will not impose mandates that will require expenditures of $100 million or more in the aggregate in any 1 year.

Nonetheless, EPA carried out consultation with government entities affected by this rule, including States, Tribal governments, and local air pollution control agencies.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, or the relationship between the national government and the States, or on the distribution of power and responsibilities among the various levels of government.”

This final rule does not have federalism implications. It will not have substantial direct effects on the States, on the relationship between the national government and the States, or on the distribution of power and responsibilities among the various levels of government, as specified in Executive Order 13132. The CAA establishes the scheme whereby States take the lead in developing plans to meet the NAAQS. This rule will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by Tribal officials in the development of regulatory policies that have Tribal implications.” This final rule does not have “Tribal implications” as specified in Executive Order 13175. This rule concerns the designation and classification of areas as attainment and nonattainment for the PM2.5 air quality standard. The CAA provides for States to develop plans to regulate emissions of air pollutants within their jurisdictions. The Tribal Authority Rule (TAR) provides Tribes the opportunity to develop and implement CAA programs such as programs to attain and maintain the PM2.5 NAAQS, but it leaves to the discretion of the Tribe the decision of whether to develop these programs and which programs, or appropriate elements of a program, the Tribe will adopt.

This final rule does not have Tribal implications as defined by Executive Order 13175. It does not have a substantial direct effect on one or more Indian Tribes, since no Tribe has implemented a CAA program to attain the PM2.5 NAAQS at this time. Furthermore, this rule does not affect the relationship or distribution of power and responsibilities between the Federal government and Indian Tribes. The CAA and the TAR establish the relationship of the Federal government and Tribes in developing plans to attain the NAAQS, and this rule does nothing to modify that relationship. Because this rule does not have Tribal implications, Executive Order 13175 does not apply.

Although Executive Order 13175 does not apply to this rule, EPA did outreach to Tribal leaders and environmental staff regarding the designations process. The EPA supports a national “Tribal Designations and Implementation Work Group” which provides an open forum for all Tribes to voice concerns to EPA about the designations and implementation process for the NAAQS, including the PM2.5 NAAQS. These discussions informed EPA about key Tribal concerns regarding designations as the rule was under development and gave Tribes the opportunity to express concerns about designations to EPA. Furthermore, EPA sent individualized letters to all federally recognized Tribes about EPA's intention to designate areas for the PM2.5 standard and gave Tribal leaders the opportunity for consultation.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health and safety risk that EPA has reason to believe may have a disproportionate effect on children. If the regulatory action meets both criteria, EPA must evaluate the environmental health or safety effects of the planned rule on children, and explain why the planned regulation is preferable to other potentially effective and reasonably feasible alternatives considered by the EPA.

This final rule is not subject to Executive Order 13045 because it is not economically significant as defined in Executive Order 12866, and because EPA does not have reason to believe that the environmental health risks or safety risks addressed by this rule present a disproportionate risk or safety risk to children. Nonetheless, we have evaluated the environmental health or safety effects of the PM2.5 NAAQS on children. The results of this risk assessment are contained in the NAAQS for PM2.5, Final Rule (July 18, 1997, 62 FR 38652).

H. Executive Order 13211: Actions That Significantly Affect Energy Supply, Distribution, or Use

This rule is not subject to Executive Order 13211, “Actions That Significantly Affect Energy Supply, Distribution, or Use,” (66 FR 28355, May 22, 2001) because it is not a significant regulatory action under Executive Order 12866.

Information on the methodology and data regarding the assessment of potential energy impacts is found in Chapter 6 of U.S. EPA 2002, Cost, Emission Reduction, Energy, and the Implementation Framework for the PM2.5 NAAQS, prepared by the Innovative Strategies and Economics Group, Office of Air Quality Planning and Standards, Research Triangle Park, NC, April 24, 2003.

I. National Technology Transfer Advancement Act (NTTAA)

Section 12(d) of the NTTAA of 1995, Public Law 104-113, section 12(d) (15 U.S.C. 272 note) directs EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs EPA to provide Congress, through OMB, explanations when the EPA decides not to use available and applicable VCS.

This action does not involve technical standards. Therefore, EPA did not consider the use of any VCS.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. A major rule cannot take effect until 60 days after it is published in the Federal Register. This action is not a “major rule” as defined by 5 U.S.C. 804(2). Pursuant to 5 U.S.C. 801, whether major or not, a rule generally cannot take effect until after submission of a rule report, including a copy of the rule, to each House of Congress and to the Comptroller General of the United States. A statutory exception to that requirement is provided in 5 U.S.C. 808(2), which provides that for a rule for which an agency for good cause finds “that notice and public procedure thereon are impractical, unnecessary, or contrary to the public interest, [the rule] shall take effect at such time as the Federal agency promulgating the rule determines.” The EPA finds that the criteria for the exception contained in 5 U.S.C. 808(2) are satisfied for the following reasons. Section 107(d)(2)(B) of the CAA explicitly exempts the designation process from compliance with the notice and comment procedures of the Administrative Procedures Act and EPA has concluded that it is appropriate to promulgate the designations following the specific procedures provided within section 107(d) of the CAA. Thus, EPA believes that additional notice and public procedure are unnecessary. Given the short time period between the submission by States of 2004 data and today's action, any such additional notice and public process would have been impracticable. Moreover, EPA has concluded that it is in the public interest to modify the designations of certain areas based upon inclusion of 2004 data in order to avoid the potential for delay and the waste of resources for such areas to pursue redesignation through other means. Therefore, EPA finds that notice and public comment procedures are unnecessary, impracticable, and contrary to the public interest for this rule. Thus, in accordance with 5 U.S.C. 808(2), EPA has concluded that today's rule can be effective on April 5, 2005. The EPA will submit a report containing this rule and other required information to the U.S. Senate, the U.S. House of Representatives, and the Comptroller General of the United States prior to publication of the rule in the Federal Register.

K. Judicial Review

Section 307(b)(1) of the CAA indicates which Federal Courts of Appeal have venue for petitions of review of final actions by EPA. This section provides, in part, that petitions for review must be filed in the Court of Appeals for the District of Columbia Circuit: (i) When EPA action consists of “nationally applicable regulations promulgated, or final actions taken, by the Administrator,” or (ii) when such action is locally or regionally applicable, if “such action is based on a determination of nationwide scope or effect and if in taking such action the Administrator finds and publishes that such action is based on such a determination.”

This rule designating areas for the PM2.5 NAAQS is “nationally applicable” within the meaning of section 307(b)(1). This rule establishes designations for all areas of the United States for the PM2.5 NAAQS. At the core of this rulemaking is EPA's interpretation of the definition of nonattainment under section 107(d)(1) of the CAA. In determining which areas should be designated nonattainment (or conversely, should be designated attainment/unclassifiable), EPA used a set of nine technical factors that it applied consistently across the United States.

For the same reasons, the Administrator also is determining that the final designations are of nationwide scope and effect for the purposes of section 307(b)(1). This is particularly appropriate because in the report on the 1977 Amendments that revised section 307(b)(1) of the CAA, Congress noted that the Administrator's determination that an action is of “nationwide scope or effect” would be appropriate for any action that has “scope or effect beyond a single judicial circuit.” H.R. Rep. No. 95-294 at 323, 324, reprinted in 1977 U.S.C.C.A.N. 1402-03. Here, the scope and effect of this rulemaking extends to numerous judicial circuits since the designations apply to all areas of the country. In these circumstances, section 307(b)(1) and its legislative history calls for the Administrator to find the rule to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: April 5, 2005.
Stephen L. Johnson,
Acting Administrator.

For the reasons set forth in the preamble, 40 CFR part 81, subpart C is amended as follows:

PART 81—DESIGNATIONS OF AREAS FOR AIR QUALITY PLANNING PURPOSES

1. The authority citation for part 81 continues to read as follows:

Authority: 42 U.S.C. 7401, et seq.

Subpart C—Section 107 Attainment Status Designations

2. In § 81.301, the “Alabama—PM2.5” table is amended by revising the entries for “Columbus, GA-AL”,“DeKalb County, AL” and “Gadsen, AL” to read as follows:

§ 81.301 Alabama.

* * * * *

Alabama—PM2.5
Designated area | Designation ᵃ: Date ¹ | Designation ᵃ: Type
* * * * * * *
Columbus GA-AL:
Russell County, AL |  | Unclassifiable/Attainment.
* * * * * * *
DeKalb County, AL:
DeKalb County |  | Unclassifiable/Attainment.
* * * * * * *
Gadsden, AL:
Etowah County |  | Unclassifiable/Attainment.
* * * * * * *
ᵃ Includes Indian Country located in each county or area, except as otherwise specified.
¹ This date is 90 days after January 5, 2005, unless otherwise noted.

3. In § 81.305, the “California—PM2.5” table is amended as follows:

a. Under “Lake Tahoe Air Basin:” by revising the entry for “Placer County (part)”.

b. By revising the entry for “Western Mojave Desert and Antelope Valley”.

c. By removing the entries for “San Diego, CA:” and “San Diego County Tribal Area:”.

d. By adding a new entry for “San Diego, CA” at the end of table.

§ 81.305 California.

* * * * *

California—PM2.5
Designated area | Designation ᵃ: Date ¹ | Designation ᵃ: Type
* * * * * * *
Lake Tahoe Air Basin:
* * * * * * *
Placer County (part):
That portion of Placer County within the drainage area naturally tributary to Lake Tahoe including said Lake, plus that area in the vicinity of the head of the Truckee River described as follows: commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning |  | Unclassifiable/Attainment.
* * * * * * *
Western Mojave Desert and Antelope Valley:
Los Angeles County (part):
That portion of Los Angeles County which lies north and east of a line described as follows: Beginning at the Los Angeles—San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary |  | Unclassifiable/Attainment.
* * * * * * *
San Diego, CA:
San Diego County |  | Unclassifiable/Attainment.
* * * * * * *
ᵃ Includes Indian Country located in each county or area, except as otherwise specified.
¹ This date is 90 days after January 5, 2005, unless otherwise noted.

4. In § 81.311, the “Georgia—PM2.5” table is amended by revising the entry for “Clarke County” under the heading of “Athens, GA,”, and by revising the entry for “Muscogee” under the heading “Columbus GA-AL” to read as follows:

§ 81.311 Georgia.

* * * * *

Georgia—PM2.5
Designated area | Designation ᵃ: Date ¹ | Designation ᵃ: Type
Athens, GA:
Clarke County |  | Unclassifiable/Attainment.
Columbus, GA-AL:
Muscogee County |  | Unclassifiable/Attainment.
* * * * * * *
ᵃ Includes Indian Country located in each county or area, except as otherwise specified.
¹ This date is 90 days after January 5, 2005, unless otherwise noted.

5. In § 81.314, the “Illinois—PM2.5” table is amended by revising the entry for “Randolph County (part)” under the heading of “St. Louis, MO-IL” to read as follows:

§ 81.314 Illinois.

* * * * *

Illinois—PM2.5
Designated area | Designation ᵃ: Date ¹ | Designation ᵃ: Type
* * * * * * *
Randolph County (part)
Baldwin Township |  | Nonattainment.
* * * * * * *
ᵃ Includes Indian Country located in each county or area, except as otherwise specified.
¹ This date is 90 days after January 5, 2005, unless otherwise noted.

6. In § 81.315, the “Indiana—PM2.5” table is amended by revising the entry for “Elkhart, IN” and “Muncie, IN” to read as follows:

§ 81.315 Indiana.

* * * * *

Indiana—PM2.5
Designated area | Designation ᵃ: Date ¹ | Designation ᵃ: Type
* * * * * * *
Elkhart, IN:
Elkhart County |  | Unclassifiable/Attainment.
St. Joseph County |  | Unclassifiable/Attainment.
* * * * * * *
Muncie, IN:
Delaware County |  | Unclassifiable/Attainment.
* * * * * * *
ᵃ Includes Indian Country located in each county or area, except as otherwise specified.
¹ This date is 90 days after January 5, 2005, unless otherwise noted.

7. In § 81.318, the “Kentucky—PM2.5” table is amended by revising the entry for “Lexington, KY” to read as follows:

§ 81.318 Kentucky.

* * * * *

Kentucky—PM2.5
Designated area | Designation ᵃ: Date ¹ | Designation ᵃ: Type
* * * * * * *
Lexington, KY:
Fayette County |  | Unclassifiable/Attainment.
Mercer County (part), |  | Unclassifiable/Attainment
* * * * * * *
ᵃ Includes Indian Country located in each county or area, except as otherwise specified.
¹ This date is 90 days after January 5, 2005, unless otherwise noted.

8. In § 81.319, the “Louisiana—PM2.5” table is revised to read as follows:

§ 81.319 Louisiana.

* * * * *

Louisiana—PM2.5
Designation area | Designated ᵃ: Date ¹ | Designated ᵃ: Type
AQCR 019 Monroe-El Dorado Interstate:
Caldwell Parish |  | Unclassifiable/Attainment.
Catahoula Parish |  | Unclassifiable/Attainment.
Concordia Parish |  | Unclassifiable/Attainment.
East Carroll Parish |  | Unclassifiable/Attainment.
Franklin Parish |  | Unclassifiable/Attainment.
La Salle Parish |  | Unclassifiable/Attainment.
Madison Parish |  | Unclassifiable/Attainment.
Morehouse Parish |  | Unclassifiable/Attainment.
Ouachita Parish |  | Unclassifiable/Attainment.
Richland Parish |  | Unclassifiable/Attainment.
Tensas Parish |  | Unclassifiable/Attainment.
Union Parish |  | Unclassifiable/Attainment.
West Carroll Parish |  | Unclassifiable/Attainment.
AQCR 022 Shreveport-Texarkana-Tyler Interstate:
Bienville Parish |  | Unclassifiable/Attainment.
Bossier Parish |  | Unclassifiable/Attainment.
Caddo Parish |  | Unclassifiable/Attainment.
Claiborne Parish |  | Unclassifiable/Attainment.
De Soto Parish |  | Unclassifiable/Attainment.
Jackson Parish |  | Unclassifiable/Attainment.
Lincoln Parish |  | Unclassifiable/Attainment.
Natchitoches Parish |  | Unclassifiable/Attainment.
Red River Parish |  | Unclassifiable/Attainment.
Sabine Parish |  | Unclassifiable/Attainment.
Webster Parish |  | Unclassifiable/Attainment.
Winn Parish |  | Unclassifiable/Attainment.
AQCR 106 S. Louisiana-S.E. Texas Interstate:
Acadia Parish |  | Unclassifiable/Attainment.
Allen Parish |  | Unclassifiable/Attainment.
Ascension Parish |  | Unclassifiable/Attainment.
Assumption Parish |  | Unclassifiable/Attainment.
Avoyelles Parish |  | Unclassifiable/Attainment.
Beauregard Parish |  | Unclassifiable/Attainment.
Calcasieu Parish |  | Unclassifiable/Attainment.
Cameron Parish |  | Unclassifiable/Attainment.
East Baton Rouge Parish |  | Unclassifiable/Attainment.
East Feliciana Parish |  | Unclassifiable/Attainment.
Evangeline Parish |  | Unclassifiable/Attainment.
Grant Parish |  | Unclassifiable/Attainment.
Iberia Parish |  | Unclassifiable/Attainment.
Iberville Parish |  | Unclassifiable/Attainment.
Jefferson Davis Parish |  | Unclassifiable/Attainment.
Jefferson Parish |  | Unclassifiable/Attainment.
Lafayette Parish |  | Unclassifiable/Attainment.
Lafourche Parish |  | Unclassifiable/Attainment.
Livingston Parish |  | Unclassifiable/Attainment.
Orleans Parish |  | Unclassifiable/Attainment.
Plaquemines Parish |  | Unclassifiable/Attainment.
Pointe Coupee Parish |  | Unclassifiable/Attainment.
Rapides Parish |  | Unclassifiable/Attainment.
St. Bernard Parish |  | Unclassifiable/Attainment.
St. Charles Parish |  | Unclassifiable/Attainment.
St. Helena Parish |  | Unclassifiable/Attainment.
St. James Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Vermilion Parish |  | Unclassifiable/Attainment.
Vernon Parish |  | Unclassifiable/Attainment.
Washington Parish |  | Unclassifiable/Attainment.
West Baton Rouge Parish |  | Unclassifiable/Attainment.
West Feliciana Parish |  | Unclassifiable/Attainment.
ᵃ Includes Indian Country located in each county or area, except as otherwise specified.
¹ This date is 90 days after January 5, 2005, unless otherwise noted.

9. In § 81.336, the “Ohio—PM2.5” table is amended by revising the entries for Gallia County under the heading of “Huntington-Ashland, WV-KY-OH”, for “Toledo, OH”, and for “Youngstown-Warren-Sharon, OH-PA” to read as follows:

§ 81.336 Ohio.

* * * * *

Ohio—PM2.5
Designated area | Designation ᵃ: Date ¹ | Designation ᵃ: Type
* * * * * * *
Gallia County (part)
Cheshire Township |  | Nonattainment.
* * * * * * *
Toledo, OH:
Lucas County |  | Unclassifiable/Attainment.
Wood County |  | Unclassifiable/Attainment.
* * * * * * *
Youngstown-Warren-Sharon, OH-PA:
Columbiana County |  | Unclassifiable/Attainment.
Mahoning County |  | Unclassifiable/Attainment.
Trumbull County |  | Unclassifiable/Attainment.
* * * * * * *
ᵃ Includes Indian Country located in each county or area, except as otherwise specified.
¹ This date is 90 days after January 5, 2005, unless otherwise noted.

* * * * *

10. In § 81.339, the “Pennsylvania—PM2.5” table is amended by revising the entry for “Youngstown-Warren-Sharon, OH-PA” to read as follows:

§ 81.339 Pennsylvania.

Pennsylvania—PM2.5
Designated area | Designation ᵃ: Date ¹ | Designation ᵃ: Type
* * * * * *
Youngstown-Warren-Sharon, OH-PA:
Mercer County |  | Unclassifiable/Attainment.
* * * * * * *
ᵃ Includes Indian Country located in each county or area, except as otherwise specified.
¹ This date is 90 days after January 5, 2005, unless otherwise noted.

11. In § 81.343, the “Tennessee—PM2.5” table is amended by revising the entry for “McMinn County, TN” to read as follows:

§ 81.343 Tennessee.

* * * * *

Tennessee—PM2.5
Designated area | Designation ᵃ: Date ¹ | Designation ᵃ: Type
* * * * * * *
McMinn County, TN:
McMinn County |  | Unclassifiable/Attainment.
* * * * * * *
ᵃ Includes Indian Country located in each county or area, except as otherwise specified.
¹ This date is 90 days after January 5, 2005, unless otherwise noted.

12. In § 81.349, the “West Virginia—PM2.5” table is amended by revising the entry for “Marion County, WV (aka Fairmont CBSA)” to read as follows:

§ 81.349 West Virginia.

* * * * *

West Virginia—PM2.5
Designated area | Designation ᵃ: Date ¹ | Designation ᵃ: Type
* * * * * * *
Marion County, WV (aka Fairmont CBSA):
Harrison County (part)
Tax District of Clay |  | Unclassifiable/Attainment.
Marion County |  | Unclassifiable/Attainment.
Monongalia County
Tax District of Cass |  | Unclassifiable/Attainment.
* * * * * * *
ᵃ Includes Indian Country located in each county or area, except as otherwise specified.
¹ This date is 90 days after January 5, 2005, unless otherwise noted.

[FR Doc. 05-7227 Filed 4-13-05; 8:45 am]

BILLING CODE 6560-50-P